FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
007699N | Caribbean American Freight, Inc., 9393 NW., 13th Street, Miami, FL 33172 | June 16, 2005.
001278F | Interproject Shipping Services, Inc., 10 Exchange Place, 19th Floor, Jersey City, NJ 07302 | July 1, 2005.

Sandra L. Kusumoto,
Director, Bureau of Certification and Licensing.

[FR Doc. 05-16857 Filed 8-24-05; 8:45 am]

BILLING CODE 6730-01-P